DEPARTMENT OF THE INTERIOR

National Park Service

[NPS-WASO-NAGPRA-NPS0036071; PPWOCRADN0-PCU00RP14.R50000]

Notice of Intent To Repatriate Cultural Items: California State University, Chico, Chico, CA

AGENCY: National Park Service, Interior.

ACTION: Notice.

SUMMARY: In accordance with the Native American Graves Protection and Repatriation Act (NAGPRA), California State University Chico (CSU Chico) intends to repatriate certain cultural items that meet the definition of unassociated funerary objects and objects of cultural patrimony and that have a cultural affiliation with the Indian Tribes or Native Hawaiian organizations in this notice. The cultural items were removed from Butte, Glenn, and Tehama Counties, CA.

DATES: Repatriation of the cultural items in this notice may occur on or after August 7, 2023.

ADDRESSES: Dawn Rewolinski, California State University Chico, 400 W 1st Street, Chico, CA 95929, telephone (530) 898-3090, email drewolinski@csuchico.edu.

SUPPLEMENTARY INFORMATION: This notice is published as part of the National Park Service's administrative responsibilities under NAGPRA. The determinations in this notice are the sole responsibility of CSU Chico. The National Park Service is not responsible for the determinations in this notice. Additional information on the determinations in this notice, including the results of consultation, can be found in the summary or related records held by CSU Chico.

Description

Accession 5

The 216 objects of cultural patrimony were removed from Butte County, CA. The cultural items were accumulated by Clarence N. Jackson, who collected items in Alaska, Nebraska, the Ozarks, Butte County, California, and San Mateo County, California. These cultural items were donated to the Chico State Anthropology Department in October of 1960. The 216 objects of cultural patrimony are one lot consisting of debitage, one modified faunal element, 58 modified stones, and 156 projectile points.

Accession 14

The six unassociated funerary objects were removed from site CA-BUT-167 in Butte County, CA. This site consists of a partially destroyed mound on private land that contains human remains. It was recorded by Dorothy Hill on October 25,1963. The cultural items were donated to the Chico State Anthropology Department on November 18, 1965. The six unassociated funerary objects are four modified stones and two lots consisting of debitage.

Accession 20

The 19 objects of cultural patrimony were removed from site CA-BUT-402 in Butte County, CA. This site was recorded on June 22, 1962, by Dorothy Hill, who was affiliated with the Chico State Anthropology Department. Hill collected items from the surface of the site and donated them to the Chico State Anthropology Department in 1965. The 19 objects of cultural patrimony are two lots consisting of debitage, 10 modified stones, two oversized stone tools, three projectile points, and two modified shells.

Accession 28

The 13 objects of cultural patrimony were removed from a location near the town of Paradise, in Butte County, CA. The cultural items were collected by H.M. Doerchuck and donated to the Chico State Anthropology Department in 1967. The 13 objects of cultural patrimony are modified stones.

Accession 56

The 60 objects of cultural patrimony were removed from Tehama County, CA. These items were collected on March 20, 1972, and March 27, 1972, during a survey of Panther Springs by a Chico State Anthropology class led by Professor Makato Kowta. The 60 objects of cultural patrimony are 27 lots consisting of debitage, one unmodified faunal element, 27 modified stones, one oversized stone tool, and four projectile points.

Accession 66

The 105 objects of cultural patrimony were removed from site CA-GLE-018 in Glenn County, CA. This site was excavated by a Chico State Anthropology class led by Professor Keith Johnson in the summer of 1973. The 105 objects of cultural patrimony are 30 beads, 25 lots consisting of debitage, 11 unmodified faunal elements, two modified faunal elements, 15 modified stones, 11 organics, and 11 unmodified shells.

Accession 89

The 32 objects of cultural patrimony were removed from site CA-BUT-116 in Butte County, CA. This site was recorded by Fritz A. Riddell on March 12, 1961. In 1975, cultural items were removed from the site by Richard Markley, who was affiliated with the Chico State Anthropology Department. The 32 objects of cultural patrimony are one charcoal sample, seven lots consisting of debitage, five modified stones, one organic, five projectile points, and 13 soil samples.

Accession 90

The 16 objects of cultural patrimony were removed from site CA-BUT-117 in Butte County, CA. This site was recorded by Fritz A. Riddell on March 12, 1961. In 1975, cultural items were removed from the site by Richard Markley. The 16 objects of cultural patrimony are three projectile points, five lots of debitage, one unmodified faunal element, and seven lots of soil.

Accession 91

The 25 objects of cultural patrimony were removed from site CA-BUT-118 in Butte County, CA. This site was recorded by Fritz A. Riddell on March 12, 1961. In 1975, cultural items were removed from the site by Richard Markley. The 25 objects of cultural patrimony are 18 lots consisting of debitage, four modified stones, two projectile points, and one lot of charcoal.

Accession 154

The 17 objects of cultural patrimony were removed from sites, CA-BUT-634, CA-BUT-636 and CA-BUT-639 in Butte County, CA. All three sites were found during the Woodworth Survey. CA-BUT-634 and CA-BUT-636 were recorded by Donald Storm and R. Meeks on May 1, 1978, and CA-BUT-639 was recorded by Donald Storm, R. Meeks, and E. Royat on May 7, 1978. Donald Storm removed several cultural items from the three sites and donated them to the Chico State Anthropology Department on November 3, 1978. The 17 objects of cultural patrimony are nine lots consisting of debitage and eight modified stones.

Accession 162

The 428 objects of cultural patrimony were removed from site CA-BUT-619 in Butte County, CA. This site was recorded by Eric W. Ritter on July 7, 1977. Ritter collected items from the surface of the site and donated the collection to the Chico State Anthropology Department in 1978 or 1979. The 428 objects of cultural patrimony are 413 lots consisting of debitage, one unmodified faunal element, 13 modified stones, and one oversized stone tool.

Accession 385

The 13,032 objects of cultural patrimony were removed from the Big Chico Creek Ecological Reserve (BCCER) in Butte County, CA. The BCCER is owned by Chico State. Between 2001 and 2010, Drs. Frank Bayham and Antoinette Martinez of the Chico State Anthropology Department led classes at several archeological sites within the BCCER. In 2005, as part of a cooperative agreement with the Mechoopda Tribe of Chico, Dr. Martinez conducted a test excavation at BCCER-02 with a class. The 13,032 objects of cultural patrimony are 145 charcoal samples, 9,903 lots consisting of debitage, 1,113 unmodified faunal elements, 1,112 modified faunal elements, 505 modified stones, 167 organics, four fragments of petrified wood, 30 projectile points, 23 unmodified shell fragments, and 30 soil samples.

Accession 419

The 99 objects of cultural patrimony were removed from the Big Chico Creek Ecological Reserve (BCCER) in Butte County, CA. The BCCER is owned by Chico State. Between 2001 and 2010, Drs. Frank Bayham and Antoinette Martinez of the Chico State Anthropology Department led classes at several archeological sites within the BCCER. The 99 objects of cultural patrimony are 28 charcoal samples, 23 lots consisting of debitage, 17 unmodified faunal elements, 12 modified clay fragments, three modified stones, eight organics, two fragments of petrified wood, one projectile point, and five soil samples.

Accession 429

The 147 objects of cultural patrimony were removed from Butte, Glenn, and Tehama Counties, CA. Accession 429 consists of cultural items accumulated by private collector Dale Ritter, who collected throughout northern California. In 2019, these cultural items were donated to the Chico State Anthropology Department by Dale's son, Eric Ritter. The 147 objects of cultural patrimony are 146 modified stones and one lot consisting of debitage.

Cultural Affiliation

The cultural items in this notice are connected to one or more identifiable earlier groups, tribes, peoples, or cultures. There is a relationship of shared group identity between the identifiable earlier groups, tribes, peoples, or cultures and one or more Indian Tribes or Native Hawaiian organizations. (We also note here that the Konkow Valley Band of Maidu, a non-federally recognized Indian group, considers portions of Butte County to be their aboriginal territory.) The following types of information were used to reasonably trace the relationship: anthropological, archeological, historical, and expert opinion.

Determinations

Pursuant to NAGPRA and its implementing regulations, and after consultation with the appropriate Indian Tribes and Native Hawaiian organizations, CSU Chico has determined that:

• The six cultural items described above are reasonably believed to have been placed with or near individual human remains at the time of death or later as part of the death rite or ceremony and are believed, by a preponderance of the evidence, to have been removed from a specific burial site of a Native American individual.

• The 14,209 cultural items described above have ongoing historical, traditional, or cultural importance central, to the Native American group or culture itself, rather than property owned by an individual.

• There is a relationship of shared group identity that can be reasonably traced between the cultural items and the Berry Creek Rancheria of Maidu Indians of California; Enterprise Rancheria of Maidu Indians of California; Mechoopda Indian Tribe of Chico Rancheria, California; Mooretown Rancheria of Maidu Indians of California; and the Paskenta Band of Nomlaki Indians of California.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 7, 2023. If competing requests for repatriation are received, CSU Chico must determine the most appropriate requestor prior to repatriation. Requests for joint repatriation of the cultural items are considered a single request and not competing requests. CSU Chico is responsible for sending a copy of this notice to the Indian Tribes identified in this notice.

Authority: Native American Graves Protection and Repatriation Act, 25 U.S.C. 3003, and the implementing regulations, 43 CFR 10.8, 10.10, and 10.14.

Dated: June 14, 2023.
Melanie O'Brien,
Manager, National NAGPRA Program.

[FR Doc. 2023-14378 Filed 7-6-23; 8:45 am]

BILLING CODE 4312-52-P